DEPARTMENT OF DEFENSE

Office of the Secretary

[Docket ID: DOD-2012-OS-0055]

Privacy Act of 1974; System of Records

AGENCY: Defense Threat Reduction Agency, DoD.

ACTION: Notice to Alter a System of Records.

SUMMARY: The Defense Threat Reduction Agency proposes to alter a system of records in its inventory of record systems subject to the Privacy Act of 1974 (5 U.S.C. 552a), as amended.

DATES: This proposed action would be effective on June 11, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Juanita Gaines, Freedom of Information and Privacy Office, Defense Threat Reduction Agency, 8725 John J. Kingman Road, Fort Belvoir, VA 22060-6201 or by phone at (703) 767-1771.

SUPPLEMENTARY INFORMATION: The Defense Threat Reduction Agency notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on May 1, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 8, 2012.
Aaron Siegel,
Alternate OSD Federal Register Liaison Officer, Department of Defense.

HDTRA 010

System name:

Nuclear Test Participants (October 26, 2009, 74 FR 54975).

Changes:

* * * * *

System location:

Delete entry and replace with “Nuclear Test Personnel Review (NTPR) Office, Defense Threat Reduction Agency, 8725 John J. Kingman Road, Fort Belvoir, VA 22060-6201.”

Categories of individuals covered by the system:

Delete entry and replace with “U.S. Veterans who were military members on active duty, and DoD civilians who were participants of the U.S. nuclear testing programs, assigned to Hiroshima or Nagasaki from August 6, 1945 to July 1, 1946; and DoD contractors and foreign nationals who participated in the cleanout of Enewetak Atoll.”

* * * * *

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

National Research Council and Vanderbilt University for the purpose of conducting epidemiological studies on the effects of ionizing radiation on participants of nuclear test programs.

Department of Labor and the Department of Justice for the purpose of processing claims by individuals who allege job-related disabilities as a result of participation in nuclear test programs and for litigation actions.

Department of Energy (DOE) for the purpose of identifying DOE and DOE contractor personnel who were, or may be in the future, involved in nuclear test programs; and for use in processing claims or litigation actions.

Department of Veterans Affairs for the purpose of processing claims by individuals who allege service-connected disabilities as a result of participation in nuclear test programs and for litigation actions' and to conduct epidemiological studies on the effect of radiation on nuclear test participants.

Upon appropriate identification or with proper authorization, information may be released to veterans or their authorized representatives.

Veterans Advisory Board on Dose Reconstruction for the purposes of reviewing and overseeing the Department of Defense Radiation Dose Reconstruction Program, to include the conduct of audits of dose reconstructions and decisions by the Department of Veterans Affairs (DVA) on claims for radiogenic diseases and the provision of assistance to both the DVA and the DTRA in providing information on the Program, and such other activities as authorized by the Veterans Benefits Act of 2003 (Pub. L. 108-183, section 601).

The DoD “Blanket Routine Uses” published at the beginning of DTRA's compilation of system of records notices apply to this system.

Note: This system of records contains Personal Identifiable Information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

Storage:

Delete entry and replace with “Paper records and electronic storage media.”

Retrievability:

Delete entry and replace with “Name, SSN, or service number.”

Safeguards:

Delete entry and replace with “Paper records are filed in folders, microfilm/fiche and computer printouts stored in areas accessible only by authorized personnel. Buildings are protected by security guards and intrusion alarm systems. Magnetic tapes are stored in a vault in a controlled area within limited access facilities. Access to computer programs is controlled through software applications which require validation prior to use. Electronic files are password protected or encrypted.”

Retention and disposal:

Delete entry and replace with “Records are retained for 75 years after termination of case. Paper and microfiche records are collected in official disposal containers (burn-bags here at Fort Belvoir, and certified records disposal containers (contract service) at Nuclear Test Personnel Review Office (NTPR)'s offsite contract sites). With regard to magnetic tape (or hard disk drives) bulk demagnetizers are used to clean the disks/tape before they are turned over to DTRA logistics for disposal. Electronic files are to be electronically transferred to NARA when no longer required.”

* * * * *

Record source categories:

Delete entry and replace with “Retired Military Personnel records from the National Personnel Records Center, US DTRA Form 150 from individuals voluntarily contacting DTRA or other elements of DoD or other Government Agencies by phone or mail. DoD historical records, dosimetry records and records from the Department of Energy, Department of Veterans Affairs, the Social Security Administration, the Internal Revenue Service, and the Department of Health and Human Services.”

* * * * *

[FR Doc. 2012-11452 Filed 5-10-12; 8:45 am]

BILLING CODE 5001-06-P